ENVIRONMENTAL PROTECTION AGENCY

[EPA-HQ-OPP-2006-0661; FRL-8087-4]

Chloropicrin Risk Assessments (Phase 3 of 6-Phase Process); Notice of Availability

AGENCY: Environmental Protection Agency (EPA).

ACTION: Notice.

SUMMARY: This notice announces the availability of EPA's human health and environmental fate and effects risk assessment(s) and related documents for the fumigant chloropicrin, and opens a public comment period on these documents. EPA is developing a Reregistration Eligibility Decision (RED) for chloropicrin through the full, 6-Phase public participation process that the Agency uses to involve the public in developing pesticide reregistration and tolerance reassessment decisions. EPA is also concurrently assessing the risks of five other soil fumigant pesticides to ensure that its assessment approaches are consistent and to ensure that risk trade offs and economic outcomes can be adequately predicted in reaching risk management decisions. Through these programs, EPA is ensuring that all pesticides meet current health and safety standards.

DATES: Comments must be received on or before January 29, 2007.

ADDRESSES: Submit your comments, identified by docket identification (ID) number EPA-HQ-OPP-2006-0661, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0661. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

Additional support documents for the soil fumigants in general can be viewed at EPA's electronic public docket www.regulations.gov under Docket ID EPA-HQ-OPP-2005-0168. The Agency has also established a soil fumigant web page at http://www.epa.gov/oppsrrd1/reregistration/soil_fumigants/. The public may also want to view the individual chemical specific dockets for other soil fumigant pesticides. These chemical specific dockets include: Telone (1,3-dichloropropene) at EPA-HQ-OPP-2005-0124, dazomet at EPA-HQ-OPP-2005-0128, metam sodium at EPA-HQ-OPP-2005-0125, metam potassium at EPA-HQ-OPP-2005-0125, and methyl bromide at EPA-HQ-OPP-2005-0123. These sites are provided for reference and review. However, the Agency is requesting that comments pertaining to chloropicrin be submitted only to the chloropicrin docket at EPA-HQ-OPP-2006-0061.

FOR FURTHER INFORMATION CONTACT: Nathan Mottl, Special Review and Reregistration Division (7508P), Office of Pesticide Programs, Environmental Protection Agency, 1200 Pennsylvania Ave., NW., Washington, DC 20460-0001; telephone number: (703) 305-0208; fax number: (703) 308-7070; e-mail address: mottl.nathan@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

EPA is making available the human health and environmental fate and effects risk assessments for chloropicrin. Chloropicrin is a non-selective pre-plant soil fumigant with fungicidal, herbicidal, insecticidal, and nematicidal properties. Chloropicrin is also used in combination with other soil fumigants and as a warning agent for other soil fumigants such as methyl bromide and telone (1,3-dichloropropene) and structural fumigations using sulfuryl flouride. Chloropicrin is primarily used for pre-plant soil uses for agricultural crops and greenhouses. However, chloropicrin is also used for fumigations of empty grain and storage bins, tree replant sites, and wood telephone poles and timber. The Agency developed these risk assessments as part of its public process for making pesticide reregistration eligibility and tolerance reassessment decisions. Through these programs, EPA is ensuring that pesticides meet current standards under the Federal Insecticide, Fungicide, and Rodenticide Act (FIFRA) and the Federal Food, Drug, and Cosmetic Act (FFDCA), as amended by the Food Quality Protection Act of 1996 (FQPA).

An estimated 5-9 million pounds of chloropicrin is applied annually. Crops on which over a million pounds are used annually include tobacco (3.6 million pounds), tomatoes (1.7 million pounds), and strawberries (1.4 million pounds). Strawberries (20 percent), tobacco (15 percent), and tomatoes (10 percent) are also the crops with the highest percentage of their overall acreage treated. Almost all of the pre-plant soil fumigation uses of chloropicrin occur in combination with either methyl bromide or telone.

Plant metabolism and environmental fate studies demonstrate that chloropicrin is degraded in both anaerobic and aerobic soil to carbon dioxide which is subsequently taken up by the plant. Therefore, the use of chloropicrin as a pre-plant soil fumigant is considered to be a non-food use and food tolerances are not required.

EPA is providing an opportunity, through this notice, for interested parties to provide comments and input on the Agency's risk assessments for chloropicrin. Such comments and input could address, for example, the availability of additional data to further refine the risk assessments, or information about specific use practices for crops that are produced using chloropicrin. For example, the following information would be helpful to EPA in characterizing regional and crop differences in use practices and possible effects on potential risk. When providing this information to the Agency, consider providing pictures or video footage to help clarify your comments.

1. Crop.

2. Fumigant use.

3. Average acres grown per enterprise.

4. Maximum acres fumigated per day.

5. Percent of the acres grown that are fumigated.

6. Typical application rate (lb a.i./acre).

7. Minimum application rate used (lb a.i./acre)(for high pest pressure situations).

8. Time of year that soil is fumigated.

9. Fumigation cycle (every crop cycle, 1 time/year, 1 time/2 years).

10. Target pests (by category or specific pests).

11. Method of application (e.g., chemigation, soil injection, specific equipment used, etc.).

12. Methods or actions taken to reduce emissions (polyethylene tarps or soil cap).

13. Could high-density polyethylene (HDPE) or high barrier tarps be used on this crop?

14. Time between treatment and next production activity (e.g., time until planting).

15. Typical crops following the fumigated crop (only if they benefit from the fumigation).

16. Regulatory restrictions in your area on this fumigant or an alternative fumigant (such as weather restrictions).

17. Soil restrictions on this fumigant or an alternative fumigant.

18. Any restrictions or concerns about minimum soil temperature, hilly terrain, etc.

19. Best available alternative (another fumigant or strategy such as leaving land fallow, etc.).

20. Could the use of different soil fumigants be alternated (e.g., metam sodium followed by (1,3-D)? Specify how.

21. Yield or quality impacts that are likely to result from moving to the best available alternative (i.e., change in commodity price or grade).

22. Would moving to the next best alternative impact key market windows? How?

23. Cost per acre of active ingredient.

24. Cost per acre of other fumigation inputs (e.g., tarps and equipment).

25. Is there a crop budget available for your area and crop?

26. Do you know of any other contacts or other sources of information for this crop who could provide information on acreage, prices, pests, etc.?

27. Are there non-chemical alternatives that can be used in place of fumigants? Describe use.

EPA seeks to achieve environmental justice, the fair treatment and meaningful involvement of all people, regardless of race, color, national origin, or income, in the development, implementation, and enforcement of environmental laws, regulations, and policies. To help address potential environmental justice issues, the Agency seeks information on any groups or segments of the population who, as a result of their location, cultural practices, or other factors, may have atypical, unusually high exposure to chloropicrin, compared to the general population.

EPA is applying the principles of public participation to all pesticides undergoing reregistration and tolerance reassessment. The Agency's Pesticide Tolerance Reassessment and Reregistration; Public Participation Process, published in the Federal Register on May 14, 2004, (69 FR 26819)(FRL-7357-9) explains that in conducting these programs, EPA is tailoring its public participation process to be commensurate with the level of risk, extent of use, complexity of issues, and degree of public concern associated with each pesticide. EPA plans to review chloropicrin through the full, 6-Phase public participation process.

Comments should be limited to issues raised within the risk assessment(s) and associated documents. Failure to comment on any such issues as part of this opportunity will not limit a commenter's opportunity to participate in any later notice and comment processes on this matter. All comments should be submitted using the methods in ADDRESSES, and must be received by EPA on or before the closing date. Comments will become part of the Agency Docket for chloropicrin. Comments received after the close of the comment period will be marked “late.” EPA is not required to consider these late comments.

B. What is the Agency's Authority for Taking this Action?

Section 4(g)(2) of FIFRA as amended directs that, after submission of all data concerning a pesticide active ingredient, “the Administrator shall determine whether pesticides containing such active ingredient are eligible for reregistration,” before calling in product specific data on individual end-use products and either reregistering products or taking other “appropriate regulatory action.”

List of Subjects

Environmental protection, Pesticides and pests.

Dated: October 20, 2006.
Debra Edwards,
Director, Special Review and Reregistration Division, Office of Pesticide Programs.

[FR Doc. E6-20145 Filed 11-28-06; 8:45 am]

BILLING CODE 6560-50-S